DEPARTMENT OF COMMERCE

National Oceanic and Atmospheric Administration

RIN: 0648-XH39

Pacific Fishery Management Council; Public Meetings

AGENCY: National Marine Fisheries Service (NMFS), National Oceanic and Atmospheric Administration (NOAA), Commerce.

ACTION: Notice of public meeting.

SUMMARY: The Pacific Fishery Management Council's (Council) Coastal Pelagic Species (CPS) advisory bodies will hold meetings, which are open to the public, on May 13-15, 2008. The primary purpose of the meetings is to review the current Pacific Mackerel Stock Assessment.

DATES: The Coastal Pelagic Species Management Team (CPSMT) and the Scientific and Statistical Committee's (SSC) CPS subcommittee will meet in a joint session on Tuesday, May 13, 2008, from 10 a.m. until business for the day is completed. The CPSMT will hold a work session on Wednesday, May 14, 2008, from 8:30 a.m. until business for the day is completed. The Coastal Pelagic Species Advisory Subpanel (CPSAS) will meet Thursday, May 15, 2008, from 8:30 a.m. until business for the day is completed.

ADDRESSES: All meetings will be held at National Marine Fisheries Service, Southwest Regional Office, Glenn M. Anderson Federal Office Building, Suite 4200, Large Conference Room, 501 West Ocean Boulevard, Long Beach, CA 90802; telephone: (562) 980-4000.

Council address: Pacific Fishery Management Council, 7700 NE Ambassador Place, Suite 101, Portland, OR 97220-1384.

FOR FURTHER INFORMATION CONTACT: Mr. Mike Burner, Pacific Fishery Management Council; telephone: (503) 820-2280.

SUPPLEMENTARY INFORMATION: The CPSMT and the SSC CPS subcommittee will review the current Pacific mackerel stock assessment. The CPSMT will also develop harvest guideline and seasonal structure recommendations for the 2008-09 Pacific mackerel fishery and review the 2008 CPS Stock Assessment and Fishery Evaluation (SAFE) document. The CPSAS will review information developed by the CPSMT about the current Pacific mackerel stock assessment and harvest guideline and seasonal structure recommendations for the 2008-09 fishery. The CPSMT and CPSAS will develop recommendations for Council consideration at its June 2008 meeting in Foster City, CA, and address other issues relating to CPS management, including, status and management of the 2008 Pacific sardine fishery, marine protected areas, research and data needs, and implementation of the Magnuson-Stevens Fishery Conservation and Management Reauthorization Act. No management actions will be decided by the CPSMT, the SSC CPS subcommittee, or the CPSAS.

Although non-emergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: April 21, 2008.
Tracey L. Thompson,
Acting Director, Office of Sustainable Fisheries, National Marine Fisheries Service.

[FR Doc. E8-8936 Filed 4-23-08; 8:45 am]

BILLING CODE 3510-22-S